Proclamation 8372 of May 4, 2009

National Charter Schools Week, 2009

By the President of the United States of America

A Proclamation

Improving our schools is the collective responsibility of all Americans—business owners and workers, educators and parents, students and their communities. We must ensure that all students receive a high-quality education that delivers the knowledge and skills needed to succeed, and that young men and women stay on the path to graduation and a life-long commitment to learning.

Many successful public charter schools across the Nation are working to meet these goals. Founded by parents, teachers, and civic or community organizations, our Nation’s public charter schools enjoy broad leeway to innovate.

The best public charter schools and their students are thriving in States that have adopted a rigorous selection and review process to ensure that autonomy is coupled with greater accountability. The growth of effective public charter schools benefits our children, and States have an important role to play in their expansion.

During National Charter Schools Week, we recognize these public charter schools for their dedication and commitment to achievement in education. They are models of excellence and are promoting the interests of our children, our economy, and our Nation as a whole.

NOW, THEREFORE, I, BARACK OBAMA, President of the United States of America, by virtue of the authority vested in me by the Constitution and laws of the United States, do hereby proclaim May 3 through May 9, 2009, as National Charter Schools Week. I commend our Nation’s successful public charter schools, teachers, and administrators, and I call on States and communities to support public charter schools and the students they serve.

IN WITNESS WHEREOF, I have hereunto set my hand this fourth day of May, in the year of our Lord two thousand nine, and of the Independence of the United States of America the two hundred and thirty-third.

[FR Doc. E9-10860

Filed 5-6-09; 8:45 am]

Billing code 3195-W9-P